DEPARTMENT OF HOMELAND SECURITY

Coast Guard

33 CFR Part 117

[CGD08-05-042]

Drawbridge Operation Regulations; Back Bay of Biloxi, Biloxi, Harrison County, MS

AGENCY: Coast Guard, DHS.

ACTION: Notice of temporary deviation from regulations.

SUMMARY: The Commander, Eighth Coast Guard District, has issued a temporary deviation from the regulation governing the operation of the Popps Ferry Road Bascule Span Bridge across the Back Bay of Biloxi, mile 8.0, at Biloxi, Harrison County, Mississippi. This deviation allows the north bascule span of the bridge to remain closed to navigation for twelve hours on July 26, 2005 with an alternate date of August 2, 2005 in case of inclement weather. This temporary deviation is necessary for the replacement of the hydraulic hoses of the drawbridge operating system.

DATES: This deviation is effective from 7:30 a.m. on Tuesday, July 26, 2005 through 7:30 p.m. on Tuesday, August 2, 2005.

ADDRESSES: Materials referred to in this document are available for inspection or copying at the office of the Eighth Coast Guard District, Bridge Administration Branch, Hale Boggs Federal Building, room 1313, 500 Poydras Street, New Orleans, Louisiana 70130-3310 between 7 a.m. and 3 p.m., Monday through Friday, except Federal holidays. The telephone number is (504) 589-2965. The Bridge Administration Branch of the Eighth Coast Guard District maintains the public docket for this temporary deviation.

FOR FURTHER INFORMATION CONTACT: Phil Johnson, Bridge Administration Branch, telephone (504) 589-2965.

SUPPLEMENTARY INFORMATION: The City of Biloxi has requested a temporary deviation in order to replace 24 hydraulic hoses of the north bascule span of the Popps Ferry Road Bridge across the Back Bay of Biloxi, mile 8.0 at Biloxi, Harrison County, Mississippi. This temporary deviation will allow the north bascule span of the bridge to remain in the closed-to-navigation position from 7:30 a.m. to 7:30 p.m. on Tuesday, July 26, 2005 with an alternate date of Tuesday, August 2, 2005 in case of inclement weather. For vessels that do not require the full channel width to safely pass through the bridge, the south bascule span will continue to open on signal, except that it need not open from 7:30 a.m. to 9 a.m. and from 4:30 p.m. to 6 p.m. as provided for in 33 CFR 117.675(c).

The bridge has a vertical clearance of 25 feet above mean high water, elevation 0.8 feet Mean Sea Level and 26.6 feet above mean low water, elevation −0.8 feet Mean Sea Level in the closed-to-navigation position. It has a horizontal clearance of 180 feet between bascule span tips while in the open-to-navigation position, normal to the channel axis. When the south bascule span is in the open-to-navigation position and the north span remains in the closed-to-navigation position, 90 feet of horizontal clearance will be available between the north bascule span tip and the south fender facing. Navigation at the site of the bridge consists mainly of tows with barges and some recreational vessels including sailing vessels. Many of the vessels that currently require an opening of the draw will be able to pass through the bridge with only the south bascule span open. Due to prior experience, as well as coordination with waterway users, it has been determined that this 12-hour closure of the north bascule span will not have a significant effect on the vessels that do require full opening of the draw. Normally, the bridge opens on signal, except that it need not open for the passage of vessels from 7:30 a.m. to 9 a.m. and from 4:30 p.m. to 6 p.m. Monday through Friday except Federal holidays, as provided for in 33 CFR 117.675(c). The north bascule span may not be able to open for emergencies during the closure period, but the south bascule span of the bridge will open at any time for vessels in distress. Alternate routes are not available.

In accordance with 33 CFR 117.35(c), this work will be performed with all due speed in order to return the bridge to normal operation as soon as possible. This deviation from the operating regulations is authorized under 33 CFR 117.35.

Dated: June 27, 2005.
Marcus Redford,
Bridge Administrator.

[FR Doc. 05-13126 Filed 7-1-05; 8:45 am]

BILLING CODE 4910-15-P